DEPARTMENT OF COMMERCE

Foreign-Trade Zones Board

[Docket 43-2001]

Foreign-Trade Zone 146—Lawrence County, IL; Application for Subzone Expansion-Subzone 146A, North American Lighting, Inc., Facilities, Flora and Salem, IL, (Automotive Lighting Products); Technical Correction of Application

Notice is hereby given that the application of Board (the Board) by the Bi-State Authority, grantee of FTZ 146, requesting authority on behalf of North American Lighting, Inc. (NAL), operator of FTZ 146A, at the NAL automotive lighting products manufacturing facilities in Flora and Salem, Illinois, to expand FTZ Subzone 146A to include a new site in Paris, Illinois, and requesting authority to expand the scope of FTZ authority to include new manufacturing capacity under FTZ procedures (66 FR 56271, 11-7-01), has been corrected to include an expansion of the boundary of Site 1 at No. 20 Industrial Park in Flora, Illinois. The southern end of Site 1 would be enlarged to include the Columbus Container Illinois, Inc., warehouse parcel (19 acres). (The application initially appeared to list this parcel within the existing Site 1 boundary.) The application remains otherwise unchanged.

The comment period is reopened until July 22, 2002. Submissions (original and three copies) shall be addressed to the Board's Executive Secretary at the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB-4100W, 1401 Constitution Ave., NW, Washington, DC 20230.

A copy of the application is available for public inspection at the Office of the Foreign-Trade Zones Board's Executive Secretary at address No.1 listed above and at the U.S. Department of Commerce Export Assistance Center, Suite 2440, 55 West Monroe Street, Chicago, IL 60603.

Dated: June 25, 2002.
Dennis Puccinelli,
Executive Secretary.

[FR Doc. 02-16511 Filed 6-28-02; 8:45 am]

BILLING CODE 3510-DS-P